LEGAL SERVICES CORPORATION

Notice of Intent to Award—Grant Awards for the Provision of Civil Legal Services to Eligible Low-Income Clients, for Service Area OH-19 in Ohio, Beginning July 1, 2003

AGENCY: Legal Services Corporation.

ACTION: Announcement of intention to make FY 2003 Competitive Grant Awards.

SUMMARY: The Legal Services Corporation (LSC) hereby announces its intention to award grants and contracts to provide economical and effective delivery of high quality civil legal services to eligible low-income clients, for service area OH-19 in Ohio, beginning July 1, 2003.

DATES: All comments and recommendations must be received on or before the close of business on May 22, 2003.

ADDRESSES: Legal Services Corporation—Competitive Grants, Legal Services Corporation, 750 First Street, NE., 10th Floor, Washington, DC 20002-4250.

FOR FURTHER INFORMATION CONTACT: Reginald Haley, Office of Program Performance, (202) 336-8827.

SUPPLEMENTARY INFORMATION: Pursuant to LSC's announcement of funding availability on January 13, 2003 (68 FR 8), LSC will award funds to Legal Services of Northwest Ohio, Inc. The grant amount is estimated to be $611,832 for the period July 1, 2003, through December 31, 2003. The funding amount is based on the 2000 census data as discussed in LSC Program Letter 02-8, and is subject to change.

This grant will be awarded under the authority conferred on LSC by the Legal Services Corporation Act, as amended (42 U.S.C. 2996e(a)(1)). An award will be made so that the service area is served, although the listed organization is not guaranteed an award or contract. This public notice is issued pursuant to the LSC Act (42 U.S.C. 2996f(f)), with a request for comments and recommendations concerning the potential grantee within a period of thirty (30) days from the date of publication of this notice. Grants will become effective and grant funds will be distributed on or about July 1, 2003.

Dated: April 16, 2003.
Michael A. Genz,
Director, Office of Program Performance, Legal Services Corporation.

[FR Doc. 03-9877 Filed 4-21-03; 8:45 am]

BILLING CODE 7050-01-P